UNITED STATES INSTITUTE OF PEACE

Sunshine Act; Notice of Meeting

Date/Time: Thursday, March 25, 2004, 9:15 a.m.-5 p.m.

Location: 1200 17th Street, NW., Suite 200, Washington, DC 20036.

Status: Open Session—Portions may be closed pursuant to subsection (c) of section 552(b) of Title 5, United States Code, as provided in subsection 1706(h)(3) of the United States Institute of Peace Act, Pub. L. 98-525.

Agenda: March 2004 Board Meeting; Approval of Minutes of the One Hundred Thirteenth (January 29, 2004) of the Board of Directors; Chairman's Report; President's Report; Committee Reports; Consideration of fellowship applications and consideration of list of recommended Grants; Other General Issues.

FOR FURTHER INFORMATION CONTACT: Tessie Higgs, Executive Office, Telephone: (202) 429-3836.

Dated: March 5, 2004.
Charles E. Nelson,
Vice President, United States Institute of Peace.

[FR Doc. 04-5506 Filed 3-8-04; 1:11 pm]

BILLING CODE 6820-AR-M